DEPARTMENT OF THE TREASURY

Open Meeting of the Advisory Committee on Risk-Sharing Mechanisms

AGENCY: Departmental Offices, U.S. Department of the Treasury.

ACTION: Notice of open meeting.

SUMMARY: This notice announces that the Department of the Treasury's Advisory Committee on Risk-Sharing Mechanisms (“Committee”) will convene a meeting on Wednesday, June 1, 2016, in Room 4121, 1500 Pennsylvania Avenue NW., Washington, DC 20220, from 10:00 a.m.-1:30 p.m. Eastern Time. The meeting is open to the public, and the site is accessible to individuals with disabilities.

DATES: The meeting will be held on Wednesday, June 1, 2016, from 10:00 a.m.-4:30 p.m. Eastern Time.

ADDRESSES: The Advisory Committee on Risk-Sharing Mechanisms meeting will be held in Room 4121, Department of the Treasury, 1500 Pennsylvania Avenue NW., Washington, DC 20220. The meeting will be open to the public. Because the meeting will be held in a secured facility, members of the public who plan to attend the meeting must either:

1. Register online. Attendees may visit http://www.cvent.com/d/sfqvj1?ct=6128d144-9ad5-45f5-910c-c7b44560aae0&RefID=TRIA+General+Registration and fill out a secure online registration form. A valid email address will be required to complete online registration.

Note: Online registration will close at 5:00 p.m. Eastern Time on Thursday, May 26, 2016.

2. Contact the Federal Insurance Office (FIO), at (202) 622-5892, by 5:00 p.m. Eastern Time on Thursday, May 26, 2016, and provide registration information.

Requests for reasonable accommodations under Section 504 of the Rehabilitation Act should be directed to Marcia Wilson, Office of Civil Rights and Diversity, Department of the Treasury at (202) 622-8177, or marcia.wilson@treasury.gov.

FOR FURTHER INFORMATION CONTACT: Brett D. Hewitt, Policy Advisor, FIO, Room 1410, Department of the Treasury, 1500 Pennsylvania Avenue NW., Washington, DC 20220, at (202) 622-5892 (this is not a toll-free number). Persons who have difficulty hearing or speaking may access this number via TTY by calling the toll-free Federal Relay Service at (800) 877-8339.

SUPPLEMENTARY INFORMATION: Notice of this meeting is provided in accordance with the Federal Advisory Committee Act, 5 U.S.C. App. II 10(a)(2), through implementing regulations at 41 CFR 102-3.150.

Public Comment: Members of the public wishing to comment on the business of the Advisory Committee on Risk-Sharing Mechanisms are invited to submit written statements by any of the following methods:

Electronic Statements

• Send electronic comments to ACRSM@treasury.gov.

Paper Statements

• Send paper statements in triplicate to the Advisory Committee on Risk-Sharing Mechanisms, Room 1410, Department of the Treasury, 1500 Pennsylvania Avenue NW., Washington, DC 20220.

In general, the Department of the Treasury will post all statements on its Web site http://www.treasury.gov/about/organizational-structure/offices/Pages/Federal-Insurance.aspx without change, including any business or personal information provided such as names, addresses, email addresses, or telephone numbers. The Department of the Treasury will also make such statements available for public inspection and copying in the Department of the Treasury's Library, 1500 Pennsylvania Avenue NW., Washington, DC 20220, on official business days between the hours of 10:00 a.m. and 5:00 p.m. Eastern Time. You can make an appointment to inspect statements by telephoning (202) 622-0990. All statements, including attachments and other supporting materials, received are part of the public record and subject to public disclosure. You should submit only information that you wish to make available publicly.

Tentative Agenda/Topics for Discussion: This is a periodic meeting of the Advisory Committee on Risk-Sharing Mechanisms. In this meeting, the Committee will: Discuss the elements needed to support and encourage a robust private market for terrorism risk insurance and reinsurance, examine a comparison of international terrorism risk insurance programs, and outline next steps the Committee will take to fulfill the goals and purpose outlined in the Terrorism Risk Insurance Program Reauthorization Act of 2015 and the Committee's charter.

Michael T. McRaith,
Director, Federal Insurance Office.

[FR Doc. 2016-11592 Filed 5-16-16; 8:45 am]

BILLING CODE 4810-25-P